DEPARTMENT OF ENERGY

[Docket No. CP01-31-000]

Kern River Gas Transmission Company; Notice of Intent To Prepare an Environmental Assessment for the Proposed Kern River Expansion Project, and Request for Comments on Environmental Issues

December 15, 2000.

The staff of the Federal Energy Regulatory Commission (FERC or Commission) will prepare an environmental assessment (EA) they will discuss the environmental impacts of the Kern River Expansion Project, involving construction and operation of facilities by Kern River Gas Transmission Company (Kern River) in Wyoming, Utah, and California.¹ These facilities would consist of about 49,500 horsepower (hp) of compression distributed among three new and one existing compressor stations. No new mainline pipeline construction or looping is proposed. This EA will be used by the Commission in its decision-making process to determine whether the project is in the public convenience and necessity.

¹ Kern River's application was filed with the Commission under Section 7(c) of the Natural Gas and Subpart A of Part 157 of the Commission's regulations.

If you are a landowner receiving this notice, you may be contacted by a pipeline company representative about the acquisition of an easement to construct, operate, and maintain the proposed facilities. The pipeline company would seek to negotiate a mutually acceptable government. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Kern River provided to landowners. This fact sheet addresses a number of typically asked questions, including the use of eminent domain and how to participate in the Commission's proceeding. It is available for viewing on the FERC Internet website (www.ferc.fed.us)

Summary of the Proposed Project

Kern River wants to expand the capacity of its existing system which extends between the southwest corner of Wyoming and the San Joaquin Valley near Bakersfield in southern California. The expansion would enable Kern River to transport an additional 124,500 million British thermal units per day of natural gas for four shippers. At least 40 percent of this gas would be directed to the electric power generation market in southern California. To support the expansion, Kern River seeks authority to construct and operate:

• A new 15,000-hp turbine-driven centrifugal compressor station in Utah County, Utah, to be co-located with Kern River's existing pig launching/receiving facilities ² on a 27.8-acre site (the Elberta Compressor Station);

² A pipeline “pig” is a device used to internally clean or inspect the pipeline. A pig launcher/receiver is a surface facility where pigs are inserted or retrieved from the pipeline.

• A new 15,000-hp turbine-driven centrifugal compressor station in Washington County, Utah, on a 37.9-acre site (the Veyo Compressor Station);

• A new 6,500-hp electric motor-driven compressor station in San Bernardino County, California, to be co-located at the existing Daggett Interconnect Metering Facilities on a 27.-acre site (the Daggett Compressor Station); and

• An additional 13,000-hp compressor at its existing Muddy Creek Compressor Station in Lincoln County, Wyoming.

Kern River would also restage a compressor at its existing Fillmore Compressor Station in Millard County, Utah, and upgrade metering facilities at two existing meter stations in Lincoln County, Wyoming (the Opal Receipt Meter Station), and Kern County, California (the Wheeler Ridge Delivery Meter Station). The general location of the project facilities in shown in appendix 1.³

³ The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Ancillary facilities at each new compressor station would include a compressor building, a compressor control building, and an auxiliary building; station piping and valves; and an auxiliary electric generator. Additionally, the Veyo Compressor Station would include gas coolers, filter/separate equipment, a pig launcher/receiver, a 4.3-mile-long access road, and a 2.4-mile-long single wood pole power line. The Daggett Compressor Station would include filter/separator equipment and an electrical transformer (rather than an auxiliary electric generator).

Installation of an additional compressor at the Muddy Creek Compressor Station would necessitate an extension of the existing compressor building and installation of additional gas coolers. Kern River also proposes to sandblast and re-coat about 200 feet of the existing buried 36-inch-diameter compressor discharge piping within the station yard.

Land Requirements for Construction

Construction of the proposed facilities would require disturb about 136 acres of land. Following construction, about 86 acres would be maintained as new aboveground facility sites (including upgraded access to the new Veyo Compressor Station). The remaining 50 acres of land would be restored and allowed to revert to its former use.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, and “our” refer to the environment staff of the Office of Energy Projects (OEP).

• geology and soils

• cultural resources

• vegetation and wildlife

• endangered and threatened species

• land use

• air quality and noise

• public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified the following issue that we think deserves attention, based on a preliminary review of the proposed facilities and the environmental information provided by Kern River. This preliminary issue list may be changed based on your comments and our analysis.

• Fifteen federally listed endangered or threatened species may occur in the proposed project area.

Public Participation

You can make a difference by providing us with your specific comments or concerns about the project. By becoming a commentor, your concerns will be addressed in the EA and considered by the Commission. You should focus on the potential environmental effects of the proposal, alternatives to the proposal (including alternative compressor station locations and/or access routes), and measures to avoid or lessen environmental impact. The more specific your comments, the more useful they will be. Please carefully follow these instructions to ensure that your comments are received in time and properly recorded:

• Send an original and two copies of your letter to: David P. Boergers, Secretary, Federal Energy Regulatory Commission, 888 First Street, NE, Room 1A, Washington, DC 20426.

• Label one copy of the comments for the attention of Gas 1.

• Reference Docket No. CP01-31-000.

• Mail your comments so that they will be received in Washington, DC on or before January 15, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its fillings to the Secretary of the Commission and must send a copy of its filings to all other parties on the Commission's service list for this proceeding. If you want to become an intervenor, you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link select “Docket #” from the RIMS Menu, and follow the instructions. For assistance with access to RIMS, the RIMS helpline can be reached at (202) 208-2474.

Similarly, the “CIPS” link on FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-32540 Filed 12-20-00; 8:45 am]

BILLING CODE 6717-01-M